DEPARTMENT OF DEFENSE

Department of the Army

Notice of Availability of a Draft Environmental Impact Statement (DEIS) for Base Closure and Realignment (BRAC) Actions at Fort Belvoir, VA

AGENCY: Department of the Army, DoD.

ACTION: Notice of Availability (NOA).

SUMMARY: The Department of the Army announces the availability of a DEIS which evaluates the potential environmental impacts associated with realignment actions directed by the Base Closure and Realignment (BRAC) Commission at Fort Belvoir, Virginia.

DATES: The public comment period for the DEIS will end 60 days after publication of this NOA in the Federal Register by the U.S. Environmental Protection Agency.

ADDRESSES: Please send written comments on the DEIS to ATTN: EIS Comments, Fort Belvoir Directorate of Public Works, 9430 Jackson Loop, Suite 100, Fort Belvoir, Virginia, 22060-5116. E-mail comments may be sent to environmental@belvoir.army.mil.

FOR FURTHER INFORMATION CONTACT: Mr. Don Carr, Fort Belvoir Public Affairs Office, at (703) 805-2583, during normal business hours Monday through Friday.

SUPPLEMENTARY INFORMATION: The subject of the DEIS and the Proposed Action are the construction and renovation activities at Fort Belvoir associated with the BRAC-directed realignment of Fort Belvoir. The DEIS also updates the land use plan portion of the installation's Real Property Master Plan due to the substantial changes at the installation due to the proposed realignment.

To implement the BRAC recommendations, Fort Belvoir will be receiving personnel, equipment, and missions from various closure and realignment actions within the Department of Defense. To implement the BRAC Commission recommendations, the Army will provide the necessary facilities, buildings, and infrastructure to accommodate personnel being realigned from the Washington Headquarters Services (WHS); National Geospatial-Intelligence Agency (NGA); various Army entities moving from leased space in the National Capital Region (NCR); U.S. Army Medical Command (MEDCOM); Program Executive Office, Enterprise Information System (PEO EIS); and Missile Defense Agency Headquarters Command Center (MDA HQCC). Details of the BRAC Commission's recommendations can be found at http://www.brac.gov.

Alternatives in the DEIS include four alternative land use plans that contain alternative means of accommodating the units, agencies and activities being realigned to Fort Belvoir. These alternatives include: (1) Town Center Alternative, (2) City Center Alternative, (3) Satellite Campuses Alternative, and (4) Preferred Alternative. The Preferred Alternative contains various elements of the other land use alternatives, and includes construction, renovation, and operation of proposed facilities to accommodate incoming military missions as mandated by the 2005 BRAC Commission's recommendations for Fort Belvoir. The No Action Alternative is also addressed in the DEIS.

The DEIS analyses indicate that implementation of the preferred alternative will have short and long-term, significant adverse impacts on the transportation network at Fort Belvoir and its surrounding area, moderate to significant impacts on biological resources, and long-term minor adverse and beneficial impacts on socioeconomic resources. Minor short and long-term adverse impacts on all other resources at the installation would potentially occur from implementation of the preferred alternative. The no action alternative provides the baseline conditions for comparison to the preferred alternative.

The Army invites the general public, local governments, other Federal agencies, and state agencies to submit written comments or suggestions concerning the alternatives and analyses addressed in the DEIS. The public and government agencies are invited to participate in a public meeting where oral and written comments and suggestions will be received. The date, time, and place of the public meeting will be announced through the local media.

An electronic version of the DEIS can be viewed or downloaded from the following URL: http://www.hqda.army.mil/acsim/brac/nepa_eis_docs.htm.

Dated: February 22, 2007.
Addison D. Davis, IV,
Deputy Assistant Secretary of the Army (Environment, Safety and Occupational Health).

[FR Doc. 07-904 Filed 2-27-07; 8:45 am]

BILLING CODE 3710-08-M